ENVIRONMENTAL PROTECTION AGENCY

[EPA-HQ-OPP-2009-0361; FRL-9994-94]

Glyphosate Proposed Interim Registration Review Decision; Extension of Comment Period

AGENCY: Environmental Protection Agency (EPA).

ACTION: Notice; extension of comment period.

SUMMARY: EPA issued a notice in the Federal Register of May 6, 2019, concerning the availability of EPA's Proposed Interim Registration Review Decision for glyphosate. This document extends the comment period for 60 days, from July 5, 2019 to September 3, 2019. This action to extend the public comment period is being taken after receiving public comments requesting additional time to review the Glyphosate Proposed Interim Registration Review Decision and supporting materials.

DATES: Comments, identified by docket identification (ID) number EPA-HQ-OPP-2009-0361, must be received on or before September 3, 2019.

ADDRESSES: Follow the detailed instructions provided under ADDRESSES in the Federal Register document of May 6, 2019 (84 FR 19782) (FRL-9992-96).

FOR FURTHER INFORMATION CONTACT: The glyphosate registrations review case contact information is email: glyphosateRegReview@epa.gov; phone: (703) 347-0292.

SUPPLEMENTARY INFORMATION: This document extends the public comment period established in the Federal Register document of May 6, 2019 (84 FR 19782) (FRL-9992-96). In that document, the Agency announced the availability of EPA's Proposed Interim Registration Review Decision for glyphosate and opened a 60-day public comment period on the proposed decision. EPA is hereby extending the comment period, which was set to end on July 5, 2019, to September 3, 2019.

To submit comments, or access the docket, please follow the detailed instructions provided under ADDRESSES in the Federal Register document of May 6, 2019. If you have questions, consult the person listed under FOR FURTHER INFORMATION CONTACT.

Authority: 7 U.S.C. 136 et seq.

Dated: June 18, 2019.
Mary Reaves,
Acting Director, Pesticide Re-Evaluation Division, Office of Pesticide Programs.

[FR Doc. 2019-13524 Filed 6-25-19; 8:45 am]

BILLING CODE 6560-50-P